DEPARTMENT OF THE INTERIOR

Bureau of Land Management

[30% to CO-956-1420-BJ-CAPD-241A; 53% to CO-956-1420-BJ-0000-241A; 11% to CO-956-9820-BJ-CO01-241A and 6% to CO-956-1910-BJ-4667-241A]

Colorado: Filing of Plats of Survey

January 24, 2001.

The plats of survey of the following described land will be officially filed in the Colorado State Office, Bureau of Land Management, Lakewood, Colorado, effective 10:00 am., June 29, 2000. All inquiries should be sent to the Colorado State Office, Bureau of Land Management, 2850 Youngfield Street, Lakewood, Colorado 80215-7093.

The plat representing the dependent resurvey of certain subdivisional lines, and the subdivision survey of section 1., T. 32 N., R. 8 W., New Mexico Principal Meridian, Group 1265, Colorado, was accepted December 18, 2000.

This survey was requested by the Bureau of Indian Affairs for administrative purposes.

The plat representing the dependent resurvey of a portion of the south and west boundaries and a portion of the subdivisional lines, and the subdivision of section 33, T. 11 N., R. 78 W., Sixth Principal Meridian, Group 1221, Colorado was accepted October 24, 2000.

The plat representing the dependent resurvey of a portion of the east boundary, (Ninth Guide meridian West), and a portion of the subdivisional lines, and the subdivision of certain sections, T. 3 N., R. 73 W., Sixth Principal Meridian, Group 1237, Colorado, was accepted November 23, 2000.

These surveys were requested by the Forest Service for administrative purposes.

The supplemental plat that cancels lots 51, 53, 54, 61, 64, 65, and 68 in the W1/2 of section 18, T. 51 N., R. 6 E., New Mexico Principal Meridian, Group 1022, Colorado, was accepted October 23, 2000.

The plat representing the dependent resurvey of a portion of the east and north boundaries and a portion of the subdivisional lines, and the subdivision of sections 1 and 2, T. 10 N., R. 79 W., Sixth Principal Meridian, Group 1213, Colorado, was accepted October 24, 2000.

The plat representing the dependent resurvey of a portion of the north boundary and subdivisional lines, and the subdivision of section 6, T. 10 N., R. 78 W., Sixth Principal Meridian, Group 1213, Colorado, was accepted October 24, 2000.

The plat (in 2 sheets) representing the dependent resurvey of certain mineral surveys in T. 42 N., R. 7 W., New Mexico Principal Meridian, Group 1239, Colorado, was accepted November 1, 2000.

The plat representing the dependent resurvey of portions of the south boundary, west boundary, north boundary, and subdivisional lines, and the subdivision of certain sections, and the description of certain corners located but not incorporated within this survey, T. 4 S., R. 93 W., Sixth Principal Meridian, Group 1207, Colorado, was accepted November 16, 2000.

The plat representing the dependent resurvey of portions of the north boundary, and the subdivisional lines, and the survey of the subdivision of sections 4 and 5, T. 5 N., R. 98 W., Sixth Principal Meridian, Group 1233, Colorado, was accepted November 29, 2000.

The plat representing the entire record of the corrective dependent resurvey of a portion of the subdivision of section 19, T. 5 S., R. 76 W., Sixth Principal Meridian, Group 1306, Colorado, was accepted December 4, 2000.

The plat representing the dependent resurvey of a portion of the west boundary, and subdivisional lines, and the subdivision of section 19, T. 2 S., R. 98 W., Sixth Principal Meridian, Group 1277, Colorado, was accepted December 19, 2000.

The amended protraction diagram (in 5 sheets) was prepared for the express purpose of describing unsurveyed public land. It does not constitute an official survey but establishes the plan for extending the rectangular survey system over these unsurveyed lands and may be used for leasing and administrative purposes only. It covers the protracted area for Townships 46 to 48 North, Ranges 19 to 20 West, New Mexico Principal Meridian, Colorado, and was accepted December 20, 2000.

The surveys were requested by the Bureau of Land Management for administrative purposes.

Collin R. Kelley,
Acting, Chief Cadastral Surveyor for Colorado.

[FR Doc. 01-4709 Filed 2-26-01; 8:45 am]

BILLING CODE 4310-JB-M